DEPARTMENT OF AGRICULTURE

Rural Business-Cooperative Service

Announcement of Rural Cooperative Development Grant Application Deadlines and Funding Levels

AGENCY: Rural Cooperative-Business Service, USDA.

ACTION: Notice of solicitation of applications.

SUMMARY: The Rural Business-Cooperative Service (RBS) announces the availability of approximately $5.0 million in competing Rural Cooperative Development Grant (RCDG) funds for fiscal year (FY) 2004. Of this amount, up to $1.5 million will be reserved for applications that focus on assistance to small, minority producers through their cooperative businesses. This action will comply with legislation which authorizes grants for establishing and operating centers for rural cooperative development. The intended effect of this notice is to solicit applications for FY 2004 and award grants before September 30, 2004. The maximum award per grant is $300,000 and matching funds are required.

DATES: You may submit completed applications for grants on paper or electronically by 4 p.m. eastern time on July 26, 2004.

ADDRESSES: You may obtain application materials for a Rural Cooperative Development Grant via the Internet at the following Web address: http://www.rurdev.usda.gov/rbs/coops/rcdg.htm or by contacting the Agency Contact for your State listed in section VII of this notice.

Submit completed paper applications to Marc Warman, USDA-RBS-CS, 1400 Independence Avenue, SW., Stop 3250, Washington, DC 20250. The room number for overnight deliveries is 4016-South.

Submit electronic grant applications to the following e-mail address: cpgrants@usda.gov.

FOR FURTHER INFORMATION CONTACT: The Agency contact for your State listed in section VII of this notice.

SUPPLEMENTARY INFORMATION:

Overview

Federal Agency: Rural Business-Cooperative Service (RBS).

Funding Opportunity Title: Rural Cooperative Development Grant.

Announcement Type: Initial announcement.

Catalog of Federal Domestic Assistance Number: 10.771.

Dates: Application Deadline: July 26, 2004.

I. Funding Opportunity Description

Rural Cooperative Development Grants (RCDG) are authorized by section 310B(e) of the Consolidated Farm and Rural Development Act (7 U.S.C. 1932(e)). Regulations are contained in 7 CFR part 4284, subparts A and F. The primary objective of the RCDG program is to improve the economic condition of rural areas through cooperative development. RCDG grants are used to facilitate the creation or retention of jobs in rural areas through the development of new rural cooperatives, value-added processing and other rural businesses. The program is administered through USDA Rural Development State Offices acting on behalf of RBS.

Section 310B(e) of the Consolidated Farm and Rural Development Act was amended by the Farm Security and Rural Investment Act of 2002 (Pub. L. 107-171) (Mar. 13, 2002) to modify the matching requirement required of RCDG grant applicants that are “1994 Institutions” (as defined in section 532 of the Equity in Educational Land-Grant Status Act of 1994 (7 U.S.C. 301 note; Pub. L. 103-382)). (The final rule implementing this amendment was published in the April 29, 2004, Federal Register. See 69 FR 23418-23436.) 1994 Institutions are not required to provide non-Federal financial support (matching funds) greater than 5 percent of the grant awarded. In the case of all applicants, preference points will be awarded where applicants commit to providing greater than the minimum 25 percent matching contribution. A current list of 1994 Institutions may be obtained from RBS.

Definitions

Agency—Rural Business-Cooperative Service (RBS), an agency of the United States Department of Agriculture (USDA), or a successor agency.

Center—The entity established or operated by the grantee for rural cooperative development. It may or may not be an independent legal entity separate from the grantee.

Cooperative Development—The startup, expansion or operational improvement of a cooperative to promote development in rural areas of services, products, and processes that can be used in the marketing of products, or enterprises that create Value-Added farm products through processing or marketing activities. Development activities may include, but are not limited to, technical assistance, research services, educational services and advisory services. Operational improvement includes making the cooperative more efficient or better managed.

Cooperative Services—The office within RBS, and its successor organization, that administers programs authorized by the Cooperative Marketing Act of 1926 (7 U.S.C. 451 et seq.) and such other programs so identified in USDA regulations.

1994 Institution—means a college identified as such for purposes of the Equity in Educational Land-Grant Status Act of 1994 (7 U.S.C. 301 note). Contact the Agency for a list of currently eligible colleges.

Matching Funds—Cash or confirmed funding commitments from non-Federal sources unless otherwise provided by law. Unless otherwise provided, matching funds must be at least equal to the grant amount. Unless otherwise provided, in-kind contributions that conform to the provisions of 7 CFR 3015.50 and 7 CFR 3019.23, as applicable, can be used as matching funds. Examples of in-kind contributions include volunteer services furnished by professional and technical personnel, donated supplies and equipment, and donated office space. Matching funds must be provided in advance of grant funding, such that for every dollar of grant that is advanced, not less than an equal amount of match funds shall have been funded prior to submitting the request for reimbursement. Matching funds are subject to the same use restrictions as grant funds. Funds used for an ineligible purpose will not be considered matching funds.

National Office—USDA RBS headquarters in Washington, DC.

Nonprofit Institution—Any organization or institution, including an accredited institution of higher education, no part of the net earnings of which may inure to the benefit of any private shareholder or individual.

Project—A planned undertaking by a Center that utilizes the funds provided to it to promote economic development in rural areas through the creation and enhancement of cooperatives.

Rural and Rural Area—includes all the territory of a state that is not within the outer boundary of any city or town having a population of 50,000 or more and the urbanized area contiguous and adjacent to such city or town, as defined by the U.S. Bureau of the Census using the latest decennial census of the United States.

Rural Development—A mission area within the USDA consisting of the Office of Under Secretary for Rural Development, Office of Community Development, Rural Business-Cooperative Service, Rural Housing Service and Rural Utilities Service and their successors.

State—includes each of the several States, the Commonwealth of Puerto Rico, the Virgin Islands of the United States, Guam, American Samoa, the Commonwealth of the Northern Mariana Islands, and, as may be determined by the Secretary to be feasible, appropriate and lawful, the Freely Associated States and the Federated States of Micronesia.

State Office—USDA Rural Development offices located in each State.

Value-Added—The incremental value that is realized by the producer from an agricultural commodity or product as the result of a change in its physical state, differentiated production or marketing, as demonstrated in a business plan, or Product segregation. Also, the economic benefit realized from the production of farm or ranch-based renewable energy. Incremental value may be realized by the producer as a result of either an increase in value to buyers or the expansion of the overall market for the product. Examples include milling wheat into flour, slaughtering livestock or poultry, making strawberries into jam, the marketing of organic products, an identity-preserved marketing system, wind or hydro power produced on land that is farmed and collecting and converting methane from animal waste to generate energy. Identity-preserved marketing systems include labeling that identifies how the product was produced and by whom.

II. Award Information

Type of Award: Grant.

Fiscal Year Funds: FY 2004.

Approximate Total Funding: $5.0 million (up to $1.5 million reserved for small, minority producers).

Approximate Number of Awards: 20.

Approximate Average Award: $250,000.

Floor of Award Range: None.

Ceiling of Award Range: $300,000.

Anticipated Award Date: 30 September 2004.

Budget Period Length: 12 months.

Project Period Length: 12 months.

III. Eligibility Information

1. Eligible Applicants: Grants may be made to non-profit corporations and institutions of higher education. Grants may not be made to Public bodies.

2. Cost Sharing or Matching: Matching funds are required. Applicants must verify in their applications that matching funds are available for the time period of the grant. The matching fund requirement is a 25 percent matching contribution (5 percent in the case of 1994 Institutions) with private funds and in-kind contributions. Preference points will be awarded where applicants commit to providing greater than the minimum 25 percent matching contribution (5 percent in the case of 1994 Institutions). Unless provided by other authorizing legislation, other Federal grant funds cannot be used as matching funds. However, matching funds contributed by the applicant may include a loan from another Federal source. Matching funds must be spent at a rate equal to or greater than the rate at which grant funds are expended. Matching funds must be provided by either the applicant in the form of cash or by a third party in the form of cash or in-kind contributions. Matching funds must be spent on eligible expenses must be from eligible sources if they are in-kind contributions.

3. Other Eligibility Requirements:

Grant Period Eligibility: Applications should have a timeframe of no more than 365 days with the time period beginning no later than 90 days after the anticipated award date.

Applications without sufficient information to determine eligibility will not be considered for funding. Applications that are non-responsive to the submission requirements detailed in Section IV of this notice will not be considered for funding. Applications that are missing any required elements (in whole or in part) will not be considered for funding.

IV. Application and Submission Information

1. Address to Request Application Package: You can obtain the application package for this funding opportunity at the following internet address: http://www.rurdev.usda.gov/rbs/coops/rcdg.htm. If you do not have access to the internet, or if you have difficulty accessing the forms online, you may contact the Rural Development State Office in your State from the list in section VII. Application forms can be mailed to you.

2. Content and Form of Submission: You may submit your application in paper or in an electronic format. If you submit your application in paper form, you must submit a signed original and one copy of your complete application. The application must be in the following format:

Font size: 12 point unreduced.

Paper size: 8.5 by 11 inches.

Page margin size: 1 inch on the top, bottom, left, and right.

Printed on only one side of each page.

Held together only by rubber bands or metal or plastic clips; not bound in any other way.

Language: English, avoid jargon.

The submission must include all pages of the application.

It is recommended that the application be in black and white, and not color. Paper applications may be scanned electronically for further review upon receipt by the Agency and the scanned images will all be in black and white. Those evaluating scanned versions of the application will only receive black and white images.

If you submit your application electronically, you only need to submit one copy. The application must be in the following format:

File format: pdf format, using Adobe Acrobat version 5.0 or higher.

Font size: 12 point unreduced.

Paper size: 8.5 by 11 inches.

Page margin size: 1 inch on the top, bottom, left, and right.

Language: English, avoid jargon.

The submission must contain all application pages (including the signed forms) in one file.

It is recommended that the application be in black and white, and not color. Those evaluating the application will only receive black and white images.

Multiple submissions or electronic files for the same application will be accepted at the discretion of the Agency. All applicants will receive a notice, either electronically or by mail that their application has been received. This notice only indicates that the application has been received—it does not convey any determination on the part of the Agency that the application is eligible or has been evaluated. Applicants will not be notified of their eligibility or ranking until all applications have been completely evaluated and the Agency has announced the award determinations.

An application must contain all of the following elements. Any application that is missing any element or contains an incomplete element will not be considered for funding.

1. Form SF-424, “Application for Federal Assistance.” In order for this form to be considered complete, it must contain the legal name of the applicant, the applicant's DUNS number, the applicant's complete mailing address, the name and telephone number of a contact person, the employer identification number, the start and end dates of the project, the Federal funds requested, other funds that will be used as matching funds, an answer to the question, “Is applicant delinquent on any Federal debt?,” and the name and signature of an authorized representative.

You are required to have a Dun and Bradstreet Data Universal Numbering System (DUNS) number to apply for a grant from RBS. The DUNS number is a nine-digit identification number, which uniquely identifies business entities. Obtaining a DUNS number is easy and there is no charge. To obtain a DUNS number, access http://www.dunandbradstreet.com or call (866) 705-5711. For more information, see the RCDG Web site at: http://www.rurdev.usda.gov/rbs/coops/rcdg.htm or contact the State Office in your State from the list in section VII.

2. Form SF-424A, “Budget Information—Non-Construction Programs.” In order for this form to be considered complete, the applicant must fill out sections A, B, C, and D. The applicant must include both Federal and matching funds.

3. Form SF-424B, “Assurances—Non-Construction Programs.” In order for this form to be considered complete, the form must be signed by an authorized official.

4. Survey on Ensuring Equal Opportunity for Applicants. RBS is required to give this survey to all non-profit applicants. This survey is voluntary. If the applicant does not wish to participate in the survey, the applicant still must return the blank survey form with a statement indicating that the applicant does not wish to provide the information requested in order for their application to be considered complete.

5. Proposal. Each proposal must contain the following elements.

(i) Title Page. The Title Page should include the title of the project as well as any other relevant identifying information. The length should not exceed one page.

(ii) Table of Contents. For ease of locating information, each proposal must contain a detailed Table of Contents (TOC) immediately following the Title Page. The TOC should include page numbers for each component of the proposal. Pagination should begin immediately following the TOC. In order for this element to be considered complete, the TOC should include page numbers for the Executive Summary, the Eligibility Discussion, the Proposal Narrative and its 11 subcomponents, Verification of Matching Funds, and Certification of Matching Funds.

(iii) Executive Summary. Summarize the project in three (3) pages or less. Pages over the three-page limit will not be considered. This summary must briefly describe the Center, including goals and tasks to be completed, the amount requested, how the work will be performed, and whether organizational staff, consultants, or contractors will be used. It should also include the title of the project, the names of the primary project contacts, and a list of the main goals. The project summary should immediately follow the TOC.

(iv) Eligibility. Describe in detail how the applicant meets the eligibility requirements. This discussion is limited to two (2) pages. Pages over the two-page limit will not be considered.

(v) Proposal Narrative. The proposal narrative is limited to a total of 50 pages. Pages over the 50-page limit will not be considered. The narrative portion of the proposal must include, but is not limited to, the following:

(a) Project Title. The title of the proposed project must be brief, not to exceed 75 characters, yet describe the essentials of the project.

(b) Information Sheet. A separate one-page information sheet which lists each of the eight evaluation criteria followed by the page numbers of all relevant material and documentation contained in the application which supports that criteria.

(c) Goals of the Project. This section must include the following:

(1) A provision that substantiates that the Center will effectively serve rural areas in the United States;

(2) A provision that the primary objective of the Center will be to improve the economic condition of rural areas through cooperative development;

(3) A description of the contributions that the proposed activities are likely to make to the improvement of the economic conditions of the rural areas for which the Center will provide services; and

(4) Provisions that the Center, in carrying out the activities, will seek, where appropriate, the advice, participation, expertise, and assistance of representatives of business, industry, educational institutions, the Federal government, and State and local governments.

(d) Work Plan. Applicants must discuss the specific tasks to be completed using grant and matching funds. The work plan should show how customers will be identified, key personnel to be involved, and the evaluation methods to be used to determine the success of specific tasks and overall objectives of Center operations. The budget must present a breakdown of the estimated costs associated with cooperative development activities as well as the operation of the Center and allocate these costs to each of the tasks to be undertaken. Matching funds as well as grant funds must be accounted for in the budget.

(e) Performance Evaluation Criteria. Performance criteria suggested by the applicant for incorporation in the grant award in the event the proposal receives grant funding under this subpart. These suggested criteria are not binding on USDA.

(f) Undertakings. The applicant must expressly undertake to do the following:

(1) Take all practicable steps to develop continuing sources of financial support for the Center, particularly from sources in the private sectors;

(2) Make arrangements for the activities by the nonprofit institution, including institutions of higher education, operating the Center to be monitored and evaluated; and

(3) Provide an accounting for the money received by the grantee under this subpart.

(g) Delivery of cooperative development assistance. The applicant must describe its previous accomplishments and outcomes in Cooperative development activities and/or its potential for effective delivery of Cooperative development services to rural areas. Applicants who have received funding under the Rural Cooperative Development Grant program in Fiscal Years 2002 or 2003 must provide a summation of progress and results for all projects funded fully or partially by the RCDG program in those years. This summary should include the status of cooperative businesses organized and all eligible grant purpose activities. The applicant should also describe the type(s) of assistance to be provided, the expected impacts of that assistance, the sustainability of cooperative organizations receiving the assistance, and the transferability of its Cooperative development strategy and focus to other areas of the U.S.

(h) Qualifications of Personnel. Applicants must describe the qualifications of personnel expected to perform key center tasks, and whether these personnel are to be full/part-time Center employees or contract personnel. Those personnel having a track record of positive solutions for complex cooperative development or marketing problems, or those with a record of conducting feasibility studies that later proved to be accurate, business planning, marketing analysis, or other activities relevant to the Center's success should be highlighted.

(i) Support and commitments. Applicants must describe the level of support and commitment in the community for the proposed Center and the services it would provide. This support can be from industry groups, commodity groups, and potential customers of the Center. Plans for coordinating with other developmental organizations in the proposed service area, or with State and local government institutions should be included. Letters supporting cooperation and coordination from potential local customers should be provided. Letters from industry groups, commodity groups, local and State government, and similar organizations should be referenced, but not included in the application package. When referencing these support letters, provide the name of the organization, date of the letter, the nature of the support (cash, technical assistance, moral), and the name and title of the person signing the letter.

(j) Future support. Applicants should describe their vision for Center operations beyond the first year, including issues such as sources and uses of alternative funding; reliance on Federal, State, and local grants; and the use of in-house personnel for providing services versus contracting out for that expertise. To the extent possible, applicants should document future funding sources that will help achieve long-term sustainability of the Center.

(k) Evaluation Criteria. Each of the evaluation criteria referenced in section V.1. must be specifically and individually addressed in narrative form.

The proposal narrative is limited to a maximum of 50 pages. Any pages over the 50-page limit will not be considered.

(6) Verification of Matching Funds. All proposed matching funds must be specifically documented in the application. Matching funds may be cash or third-party in-kind contributions. If matching funds are to be provided by the applicant in cash, there must be a statement that cash will be available, the amount of the cash, and the source of the cash. If the matching funds are to be provided by a third party in cash, the application must include a signed letter from that third party verifying how much cash will be donated and when it will be donated. Verification for funds donated outside the proposed time period of the grant will not be accepted. If the matching funds are to be provided by a third party in-kind donation, the application must include a signed letter from the third party verifying the goods or services to be donated, when the goods and services will be donated, and the value of the goods or services. Verification for in-kind contributions donated outside the proposed time period of the grant will not be accepted. Verification for in-kind contributions that are over-valued will not be accepted.

If matching funds are in cash, they must be spent on goods and services that are eligible expenditures for this grant program. If matching funds are in-kind contributions, the donated goods or services must be considered eligible expenditures for this grant program as well as be used for eligible purposes. The matching funds must be spent or donated during the grant period and the funds must be expended at a rate equal to or greater than the rate grant funds are expended. Some examples of unacceptable matching funds are donations of fixed equipment and buildings, and the preparation of your RCDG application package.

If acceptable verification for all proposed matching funds is missing from the application, the application will be determined to be incomplete and will not be considered for funding.

(7) Certification of Matching Funds. Applicants must certify that matching funds will be available at the same time grant funds are anticipated to be spent and that matching funds will be spent at a rate equal to or greater than the rate grant funds are spent throughout the duration of the grant period. If this certification is missing from the application, the application will be determined to be incomplete and will not be considered for funding.

3. Submission Dates and Times:

Application Deadline Date: July 26, 2004.

Explanation of Deadlines: Applications must be received by Marc Warman, USDA-RBS-CS, 1400 Independence Avenue, SW., Room 4016-South, Stop 3250, Washington, DC 20250 by 4 p.m. eastern time on the deadline date. If you send your application by the United States Postal Service or commercial delivery service, you must ensure that the carrier will be able to guarantee delivery of the application by the closing date and time. If your application does not meet the deadline above, it will not be considered for funding. You will be notified that your application did not meet the submission requirements. You will also be notified by mail or by e-mail if your application is received on time.

4. Intergovernmental Review of Applications: Executive Order 12372 does apply to this program.

5. Funding Restrictions: Funding restrictions apply to both grant funds and matching funds. Grant funds may be used to pay up to 75 percent (95 percent where the grantee is a 1994 Institution) of the cost of establishing and operating centers for rural cooperative development. Unless provided by other authorizing legislation, other Federal grant funds cannot be used as matching funds. However, matching funds contributed by the applicant may include a loan from another Federal source.

In general, grant and matching funds can be used to assist farmers and ranchers in organizing new or improving existing agriculture cooperatives, including those involved in value-added activities. Grant and matching funds can also be used to help rural residents form other cooperatively operated businesses such as housing cooperatives, including the conversion of properties administered under the section 515 program administered by the Rural Housing Service to housing cooperatives. Finally, grant and matching funds can be used to help rural residents form shared-services businesses to support their individually owned rural businesses.

Grant funds and matching funds may be used for, but are not limited to, providing the following to individuals, cooperatives, small businesses and other similar entities in rural areas served by the Center:

(a) Applied research, feasibility, environmental and other studies that may be useful for the purpose of cooperative development.

(b) Collection, interpretation and dissemination of principles, facts, technical knowledge, or other information for the purpose of cooperative development.

(c) Providing training and instruction for the purpose of cooperative development.

(d) Providing loans and grants for the purpose of cooperative development in accordance with the subpart.

(e) Providing technical assistance, research services and advisory services for the purpose of cooperative development.

No funds made available under this solicitation shall be used to do any of the following activities:

Duplicate current services or replace or substitute support previously provided. If the current service is inadequate, however, grant funds may be used to expand the level of effort or services beyond what is currently being provided;

Paying the costs of preparing the application package for funding under this program;

Pay costs of the project incurred to prior to the date of grant approval;

Fund political activities;

Pay for assistance to any private business enterprise which does not have at least 51 percent ownership by those who are either citizens of the United States or reside in the United States after being legally admitted for permanent residence.

Pay any judgment or debt owed to the United States;

Plan, repair, rehabilitate, acquire, or construct a building or facility, including a processing facility;

Purchase, rent, or install fixed equipment;

Pay for the repair of privately owned vehicles;

Fund research and development; or

Fund any activities prohibited by 7 CFR parts 3015 and 3019.

6. Other Submission Requirements: Applications must be received by Marc Warman, USDA-RBS-CS, 1400 Independence Avenue, SW., Room 4016-South, Stop 3250, Washington, DC 20250 by 4 p.m. eastern time on the deadline date. Each application submission must contain all required documents in one envelope, if by mail or express delivery service, or all required documents must be in one electronic pdf file if the submission is by e-mail.

V. Application Review Information

1. Criteria: All eligible and complete applications will be evaluated based on the following criteria. Failure to address any one of the following criteria will result in a determination of incomplete and the application will not be considered for funding.

The criteria listed in this section will be used to evaluate grants under this subpart. Preference will be given to items in paragraphs (a) through (k). Up to five points will be awarded to each of the 11 criteria. Each criterion will receive equal weight.

For information and documentation that appear in other sections of this funding announcement that already address the following criteria, the applicant may reference that information and documentation by section number and page number. The applicant does not have to repeat information and documentation in section V.1. if it is presented elsewhere. However, the applicant must correctly reference this information and documentation. Reviewers will not be required to search for information and documentation that is incorrectly referenced.

(a) Administrative capabilities. (1-5 points) The application will be evaluated to determine whether the subject Center has a track record of administering a nationally coordinated, regional or State-wide operated project. Centers that have capable financial systems and audit controls, personnel and program administration performance measures and clear rules of governance will receive more points than those not evidencing this capacity.

(b) Technical assistance and other services. (1-5 points) The Agency will evaluate the applicant's demonstrated expertise in providing technical assistance in rural areas. This includes conducting feasibility studies, developing marketing plans, developing business plans, and doing those other activities necessary for a group of individuals to form a cooperative.

(c) Economic development. (1-5 points) The Agency will evaluate the applicant's demonstrated ability to assist in the retention of businesses, facilitate the establishment of cooperatives and new cooperative approaches and generate employment opportunities that will improve the economic conditions of rural areas.

(d) Linkages. (1-5 points) The Agency will evaluate the applicant's demonstrated ability to create horizontal linkages among businesses within and among various sectors in rural areas of the United States and vertical linkages to domestic and international markets. These linkages must be among cooperatives, not development organizations.

(e) Commitment. (1-5 points) The Agency will evaluate the applicant's commitment to providing technical assistance and other services to underserved and economically distressed areas in rural areas of the United States.

(f) Matching Funds. (1-5 points) All applicants must demonstrate Matching Funds equal to at least 25 percent (5 percent for 1994 Institutions) of the grant amount requested. Applications exceeding these minimum commitment levels will receive more points.

(g) Delivery. (1-5 points) The Agency will evaluate whether the Center has a track record in providing technical assistance in rural areas and accomplishing effective outcomes in cooperative development. The Center's potential for delivering effective cooperative development assistance, the expected effects of that assistance, the sustainability of cooperative organizations receiving the assistance, and the transferability of the Center's cooperative development strategy and focus to other States will also be assessed.

(h) Work Plan/Budget. (1-5 points) The work plan will be reviewed for detailed actions and an accompanying timetable for implementing the proposal. Clear, logical, realistic and efficient plans will result in a higher score. Budgets will be reviewed for completeness and the quality of non-Federal funding commitments.

(i) Qualifications of those Performing the Tasks. (1-5 points) The application will be evaluated to determine if the personnel expected to perform key center tasks have a track record of positive solutions for complex Cooperative development or marketing problems, or a successful record of conducting accurate feasibility studies, business plans, marketing analysis, or other activities relevant to Cooperative development center success.

(j) Local support. (5 points) Applications will be reviewed for previous and expected local support for the Center, plans for coordinating with other developmental organizations in the proposed service area, and coordination with State and local institutions. Support documentation should include recognition of rural values that balance employment opportunities with environmental stewardship and other positive rural amenities. Other than support from potential customers, just reference the support letters and documentation and do not actually submit documents. Centers that demonstrate strong support from potential beneficiaries and formal evidence of the Center's intent to coordinate with other developmental organizations will receive more points than those not evidencing such support and formal intent.

(k) Future support. (1-5 points) Applications that demonstrate their vision for funding center operations for future years, including diversification of funding sources and building in-house technical assistance capacity, will receive more points for this criterion.

2. Review and Selection Process: The Agency will conduct an initial screening of all proposals to determine whether the applicant is eligible, complete, and sufficiently responsive to the requirements set forth in this funding announcement so as to allow for an informed review. Incomplete or non-responsive applications will not be evaluated further. Applicants may revise their applications and re-submit them prior to the published deadline if there is sufficient time to do so. However, given the tight timeline this year, this probably will not be possible. Reviewers appointed by the Agency will evaluate applications.

3. Anticipated Announcement and Award Dates:

Award Date: The announcement of award selections is expected to occur on or about September 30, 2004.

VI. Award Administration Information

1. Award Notices: Successful applicants will receive a notification of tentative selection for funding from Rural Development. Applicants must comply with all applicable statutes and regulations before the grant award will be approved. Unsuccessful applicants will receive notification by mail.

2. Administrative and National Policy Requirements: 7 CFR parts 3015, 3019, and 4284.

To view these regulations, please see the following internet address: http://www.access.gpo.gov/nara/cfr/cfr-table-search.html#page1.

The following additional requirements apply to grantees selected for this program:

Grant Agreement.

Letter of Conditions.

Form RD 1940-1, “Request for Obligation of Funds.”

Form RD 1942-46, “Letter of Intent to Meet Conditions.”

Certification of Ownership and Uniform Federal Assistance Regulations.

Resolution Authorizing Execution of Letter of Intent to Meet Conditions and Resolution Authorizing Execution of Request for Obligation of Funds.

Form AD-1047, “Certification Regarding Debarment, Suspension, and Other Responsibility Matters-Primary Covered Transactions.”

Form AD-1048, “Certification Regarding Debarment, Suspension, Ineligibility and Voluntary Exclusion-Lower Tier Covered Transactions.”

Form AD-1049, “Certification Regarding Drug-Free Workplace Requirements (Grants).”

Form RD 400-1, “Equal Opportunity Agreement.”

Form RD 400-4, “Assurance Agreement.”

RD Instruction 1940-Q, Exhibit A-1, “Certification for Contracts, Grants & Loans.”

Additional information on these requirements can be found on the RBS Web site at the following Internet address: http://www.rurdev.usda.gov/rbs/coops/rcdg.htm.

Reporting Requirements: You must provide Rural Development with an original hard copy of the following reports. RBS is currently developing an online reporting system. Once the system is developed, you may be required to submit some or all of your reports online instead of in hard copy. The hard copies of your reports should be submitted to the Rural Development State Office of the state in which the Center is located. Failure to submit satisfactory reports on time may result in suspension or termination of your grant.

(1) A “Financial Status Report” listing expenditures according to agreed upon budget categories, on a semi-annual basis. Reporting periods end each March 31 and September 30. Reports are due 30 days after the reporting period ends.

(2) Semi-annual performance reports that compare accomplishments to the objectives stated in the proposal. Identify all tasks completed to date and provide documentation supporting the reported results. If the original schedule provided in the work plan is not being met, the report should discuss the problems or delays that may affect completion of the project. Objectives for the next reporting period should be listed. Compliance with any special condition on the use of award funds should be discussed. Reports are due as provided in paragraph (1) of this section. The supporting documentation for completed tasks include, but are not limited to, feasibility studies, marketing plans, business plans, articles of incorporation and bylaws and an accounting of how outreach, training, and other “soft” funds were spent.

(3) Final project performance reports, including supporting documentation are due within 90 days of the completion of the project.

VII. Agency Contacts

For general questions about this announcement and for program technical assistance, please contact the State Office for the State in which the Applicant is based. If you are unable to contact your State Office, please contact a nearby State Office or you may contact the RBS National Office at Mail Stop 3250, 1400 Independence Avenue, SW., Washington, DC 20250-3250, telephone: (202) 720-7558, e-mail: cpgrants@usda.gov.

List of Rural Development State Offices

Note: Telephone numbers shown are not toll free.

Alabama

State Director, USDA Rural Development, Sterling Center, Suite 601, 4121 Carmichael Road, Montgomery, AL 36106-3683. (334) 279-3400. steve.pelham@al.usda.gov.

Alaska

State Director, USDA Rural Development, 800 West Evergreen, Suite 201, Palmer, AK 99645. (907) 761-7705. nhayes@rdmail.rural.usda.gov.

Arizona

State Director, USDA Rural Development, 3003 North Central Avenue, Suite 900, Phoenix, AZ 85012. (602) 280-8700. eddie.browning@az.usda.gov.

Arkansas

State Director, USDA Rural Development, 700 West Capitol Avenue, Room 3416, Little Rock, AR 72201-3225. (501) 301-3200. john.allen@ar.usda.gov.

California

State Director, USDA Rural Development, 430 G Street, Agency 4169, Davis, CA 95616. (530) 792-5800. paul.venosdel@ca.usda.gov.

Colorado

State Director, USDA Rural Development, 655 Parfet Street, Lakewood, CO 80215. (720) 544-2903. gigi.dennis@co.usda.gov.

Delaware-Maryland

State Director, USDA Rural Development, 4607 South DuPont Highway, Camden, DE 19934. (302) 697-4300. marlene.elliott@de.usda.gov.

Florida/Virgin Islands

State Director, USDA Rural Development, 4440 NW. 25th Place, Gainesville, FL 32606. (352) 338-3400. charles.clemons@fl.usda.gov.

Georgia

State Director, USDA Rural Development, Stephens Federal Building, 355 E. Hancock Avenue, Athens, GA 30601. (706) 546-2162. stone.workman@ga.usda.gov.

Hawaii

State Director, USDA Rural Development, Federal Building, Room 311, 154 Waianuenue Avenue, Hilo, HI 96720. (808) 933-8380. lorraine.shin@hi.usda.gov.

Idaho

State Director, USDA Rural Development, 9173 West Barnes Drive, Suite A1, Boise, ID 83709. (208) 378-5600. mike.field@id.usda.gov.

Illinois

State Director, USDA Rural Development, 2118 West Park Court, Suite A, Champaign, IL 61821. (217) 403-6200. Douglas.wilson@il.usda.gov.

Indiana

State Director, USDA Rural Development, 5975 Lakeside Boulevard, Indianapolis, IN 46278. (317) 290-3100. Robert.white@in.usda.gov.

Iowa

State Director, USDA Rural Development, Federal Building, Room 873, 210 Walnut Street, Des Moines, IA 50309. (515) 284-4663. nancy.orth@ia.usda.gov.

Kansas

State Director, USDA Rural Development, 1303 SW. First American Place, Suite 100, Topeka, KS 66604. (785) 271-2700. chuck.banks@ks.usda.gov.

Kentucky

State Director, USDA Rural Development, 771 Corporate Drive, Suite 200, Lexington, KY 40503. (859) 224-7300. ken.slone@ky.usda.gov.

Louisiana

State Director, USDA Rural Development, 3727 Government Street, Alexandria, LA 71302. (318) 473-7920. Michael.taylor@la.usda.gov.

Maine

State Director, USDA Rural Development, 967 Illinois Avenue, Suite 4, Bangor, ME 04402. (207) 990-9106. m.aube@me.usda.gov.

Massachusetts/Rhode Island/Connecticut

State Director, USDA Rural Development, 451 West Street, Suite 2, Amherst, MA 01002. (413) 253-4300. david.tutle@ma.usda.gov.

Michigan

State Director, USDA Rural Development, 3001 Coolidge Road, Suite 200, East Lansing, MI 48823. (517) 324-5200. Harry.brumer@mi.usda.gov.

Minnesota

State Director, USDA Rural Development, 375 Jackson Street, Suite 410, St. Paul, MN 55101-1853. (651) 602-7800. steve.wenzel@mn.usda.gov.

Mississippi

State Director, USDA Rural Development, Federal Building, Suite 831, 100 West Capitol Street, Jackson, MS 39269. (601) 965-4316. nick.walters@ms.usda.gov.

Missouri

State Director, USDA Rural Development, 601 Business Loop 70 West, Parkade Center, Suite 235, Columbia, MO 65203. (573) 876-0976. greg.branum@mo.usda.gov.

Montana

State Director, USDA Rural Development, 900 Technology Blvd., Suite B, Bozeman, MT 59718. (406) 585-2580. tim.ryan@mt.usda.gov.

Nebraska

State Director, USDA Rural Development, Federal Building, Room 152, 100 Centennial Mall N, Lincoln, NE 68508. (402) 437-5551. jim.barr@ne.usda.gov.

Nevada

State Director, USDA Rural Development, 1390 South Curry Street, Carson City, NV 89703. (775) 887-1222. larry.smith@nv.usda.gov.

New Jersey

State Director, USDA Rural Development, 5th Floor North Tower, Suite 500, 8000 Midlantic Drive, Mount Laurel, NJ 08054. (856) 787-7700. Andrew.law@nj.usda.gov.

New Mexico

State Director, USDA Rural Development, 6200 Jefferson Street, NE., Room 255, Albuquerque, NM 87109. (505) 761-4950. jeff.condrey@nm.usda.gov.

New York

State Director, USDA Rural Development, The Galleries of Syracuse, 441 South Salina Street, Suite 357, Syracuse, NY 13202. (315) 477-6400. Patrick.brennan@ny.usda.gov.

North Carolina

State Director, USDA Rural Development State Office, 4405 Bland Road, Suite 260, Raleigh, NC 27609. (919) 873-2000. john.cooper@nc.usda.gov.

North Dakota

State Director, USDA Rural Development, Federal Building, Room 208, 220 East Rosser Avenue, Bismarck, ND 58502-1737. (701) 530-2037. jane.grant@nd.usda.gov.

Ohio

State Director, USDA Rural Development, Federal Building, Room 507, 200 North High Street, Columbus, OH 43215. (614) 255-2400. randall.hunt@oh.usda.gov.

Oklahoma

State Director, USDA Rural Development, 100 USDA, Suite 108, Stillwater, OK 74074. (405) 742-1000. brent.kisling@ok.usda.gov.

Oregon

State Director, USDA Rural Development, 101 SW Main Street, Suite 1410, Portland, OR 97204. (503) 414-3300. lynn.schoessler@or.usda.gov.

Pennsylvania

State Director, USDA Rural Development, One Credit Union Place, Suite 330, Harrisburg, PA 17110-2996. (717) 237-2299. byron.ross@pa.usda.gov.

Puerto Rico

State Director, USDA Rural Development State Office, 654 Munoz Rivera Avenue, IBM Plaza, Suite 601, Hato Rey, Puerto Rico 00918. (787) 766-5095. jose.otero@pr.usda.gov.

South Carolina

State Director, USDA Rural Development State Office, Strom Thurmond Federal Building, 1835 Assembly Street, Suite 1007, Columbia, SC 29201. (803) 765-5163. charles.sparks@sc.usda.gov.

South Dakota

State Director, USDA Rural Development, Federal Building, Room 210, 200 4th Street, SW., Huron, SD 57350. (605) 352-1100. lynn.jensen@sd.usda.gov.

Tennessee

State Director, USDA Rural Development, 3322 West End Avenue, Suite 300, Nashville, TN 37203. (615) 783-1300. peggy.rose@tn.usda.gov.

Texas

State Director, USDA Rural Development, Federal Building, Suite 102, 101 South Main, Temple, TX 76501. (254) 742-9700. bryan.daniel@tx.usda.gov.

Utah

State Director, USDA Rural Development, Wallace F. Bennett Federal Building, 125 South State Street, Room 4311, Salt Lake City, UT 84138. (801) 524-4320. jack.cox@ut.usda.gov.

Vermont/New Hampshire

State Director, USDA Rural Development, City Center, 3rd Floor, 89 Main Street, Montpelier, VT 05602. (802) 828-6000. marie.ferris@vt.usda.gov.

Virginia

State Director, USDA Rural Development, Culpeper Building, Suite 238, 1606 Santa Rosa Road, Richmond, VA 23229. (804) 287-1550. joe.newbill@va.usda.gov.

Washington

State Director, USDA Rural Development, 1835 Black Lake Blvd., SW., Suite B, Olympia, WA 98512. (360) 704-7740. misha.divens@wa.usda.gov.

West Virginia

State Director, USDA Rural Development, Federal Building, 75 High Street, Room 320, Morgantown, WV 26505. (304) 284-4860. jenny.phillips@wv.usda.gov.

Wisconsin

State Director, USDA Rural Development, 4949 Kirschling Court, Stevens Point, WI 54481. (715) 345-7600. frank.frassetto@wi.usda.gov.

Wyoming

State Director, USDA Rural Development, 100 East B Street, Room 1005, Casper, WY 82601. (307) 261-6300. john.cochran@wy.usda.gov.

Dated: June 3, 2004.
John Rosso,
Administrator, Rural Business-Cooperative Service.

[FR Doc. 04-13012 Filed 6-8-04; 8:45 am]

BILLING CODE 3410-XY-P